DEPARTMENT OF COMMERCE

National Oceanic and Atmospheric Administration

[I.D. 012401C]

North Pacific Fishery Management Council; Public Meeting

AGENCY: National Marine Fisheries Service (NMFS), National Oceanic and Atmospheric Administration (NOAA), Commerce.

ACTION: Notice of public meeting.

SUMMARY: The North Pacific Fishery Management Council’s (Council) Bering Sea/Aleutian Islands Crab Rationalization Committee will hold a meeting.

DATES: The meeting will be held on February 15-16, 2001, beginning at 9:00 a.m. on February 15.

ADDRESSES: The meeting will be held at the Alaska Fisheries Science Center (AFSC), 7600 Sand Point Way NE, in Room 2039, Building 4, Seattle, WA. Council address: North Pacific Fishery Management Council, 605 W. 4th Ave., Suite 306, Anchorage, AK 99501-2252.

FOR FURTHER INFORMATION CONTACT: Council staff, phone: 907-271-2809.

SUPPLEMENTARY INFORMATION: The Committee will begin to develop alternatives, elements and options for crab rationalization which they will forward to the North Pacific Fishery Management Council for consideration in April 2001.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen at 907-271-2809 at least 7 working days prior to the meeting date.

Dated: January 24, 2001.
Richard W. Surdi,
Acting Director, Office of Sustainable Fisheries, National Marine Fisheries Service.

[FR Doc. 01-2577 Filed 1-29-01; 8:45 am]

BILLING CODE 3510-22-S